DEPARTMENT OF ENERGY

Federal Energy Regulatory Commission

[Docket No. CP05-413-005]

East Tennessee Natural Gas, LLC; Notice of Amendment

January 18, 2008.

Take notice that on January 7, 2008, East Tennessee Natural Gas, LLC (East Tennessee), 5400 Westheimer Court, Houston, Texas 77056-5310, filed an abbreviated application pursuant to section 7(c) of the Natural Gas Act (NGA) and Part 157 of the Commission's regulations, for an amendment to its certificate of public convenience and necessity to increase the capacity of its Jewell Ridge Lateral, located in Tazewell and Smyth Counties, Virginia, from 235,000 Dth per day, as certificated in an order issued on February 8, 2006, to 275,862 Dth per day. East Tennessee does not request authorization to construct any facilities. East Tennessee proposes to continue to charge its existing rate for the expanded service, but states that a slightly higher rate could be supported based on the actual costs of the project.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding the application are to be directed to Garth Johnson, General Manager, Certificates & Reporting, East Tennessee Natural Gas, LLC, 5400 Westheimer Court, P.O. Box 1642, Houston, Texas 77251-1642, telephone no. (713) 627-5415 and E-mail: gjohnson@spectraenergy.com.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit the original and 14 copies of the protest or intervention to the Federal Energy Regulatory Commission, 888 First Street, NE., Washington, DC 20426.

Comment Date: February 8, 2008.

Kimberly D. Bose,
Secretary.

[FR Doc. E8-1422 Filed 1-25-08; 8:45 am]

BILLING CODE 6717-01-P